DEPARTMENT OF AGRICULTURE

Federal Crop Insurance Corporation

7 CFR Part 457

Common Crop Insurance Regulations; Sugarcane Crop Insurance Provisions

AGENCY: Federal Crop Insurance Corporation, USDA.

ACTION: Final rule; correction.

SUMMARY: This document contains corrections to the final rule, Common Crop Insurance Regulations; Sugarcane Crop Insurance Provisions that the Federal Crop Insurance Corporation published in the Federal Register on Friday, July 12, 2002 (67 FR 46093-46096).

EFFECTIVE DATE: August 14, 2002.

FOR FURTHER INFORMATION CONTACT: Arden Routh, Risk Management Specialist, Product Development Division, Federal Crop Insurance Corporation, United States Department of Agriculture, 6501 Beacon Drive, Kansas City, MO, 64133, telephone (816) 926-7730.

SUPPLEMENTARY INFORMATION: On page 46093, in the first column, under Summary, the year 2003 should read 2004, and on page 46095, in the second column, under Section 457.116, Sugarcane crop insurance provisions, introductory text, the year 2003 should read 2004. These changes are needed because the final rule was published after the contract change date for the 2003 crop year.

Signed in Washington DC, on August 7, 2002.
Ross J. Davidson, Jr.,
Administrator, Federal Crop Insurance Corporation.

[FR Doc. 02-20522 Filed 8-13-02; 8:45 am]

BILLING CODE 3410-08-P